DEPARTMENT OF TRANSPORTATION

Federal Aviation Administration

Aviation Rulemaking Advisory Committee Meeting on Air Carrier and General Aviation Maintenance Issues

AGENCY: Federal Aviation Administration (FAA) (DOT).

ACTION: Notice of public meeting.

SUMMARY: The Federal Aviation Administration (FAA) is issuing this notice to advise the public of a meeting of the FAA Aviation Rulemaking Advisory Committee to discuss Air Carrier and General Aviation Maintenance Issues. Specifically the committee will discuss two tasks concerning quality assurance and ratings for aeronautical repair stations.

DATES: The meeting will be held on January 9, 2002, from 9 a.m. to 5 p.m. Arrange for teleconference capability and presentations by January 3, 2002.

ADDRESSES: The meeting will be held at the General Aviation Manufacturers Association, 1400 K Street, NW., Suite 801, Washington, DC 20005.

FOR FURTHER INFORMATION CONTACT: Vanessa R. Wilkins, Federal Aviation Administration, Office of Rulemaking (ARM-207), 800 Independence Avenue, SW., Washington, DC 20591, telephone (202) 267-8029; fax (202) 267-5075.

SUPPLEMENTARY INFORMATION: Pursuant to § 10(a)(2) of the Federal Advisory Committee Act (Pub. L. 92-463; 5 U.S.C. App II), notice is hereby given of a meeting of the Aviation Rulemaking Advisory Committee to discuss air carrier and general aviation maintenance issues to be held on January 9, 2002, from 9 a.m. to 5 p.m. at the General Aviation Manufacturers Association, 1400 K Street, NW., Suite 801, Washington, DC 20005.

Meeting Agenda

• Opening remarks and committee administration

• Discussion of quality system elements relating to a quality assurance program

• Break

• Discussion of current regulatory requirements relating to quality system elements

• Lunch

• Discussion of quality assurance/system elements missing from current regulatory requirements

• Break

• Discussion of repair station ratings

• Adjourn

Attendance is open to the interested public, but will be limited to the space available. The FAA will arrange teleconference capability for individuals wishing to participate by teleconference if we receive notification by January 3, 2002. Arrangements to participate by teleconference can be made by contacting the person listed in the FOR FURTHER INFORMATION CONTACT section. Callers outside the Washington metropolitan area will be responsible for paying long distance charges.

The public must make arrangements by January 3, 2002, to present oral statements at the meeting. The public may present written statements to the committee at any time by providing 25 copies to the Assistant Executive Director, or by bringing the copies to the meeting. In addition, sign and oral interpretation can be made available at the meeting, as well as an assistive listening device, if requested by January 3, 2002. Arrangements may be made by contacting the person listed under the heading FOR FURTHER INFORMATION CONTACT.

Issued in Washington, DC, on December 20, 2001.
David E. Cann,
Assistant Executive Director, Aviation Rulemaking Advisory Committee.

[FR Doc. 01-32039 Filed 12-28-01; 8:45 am]

BILLING CODE 4910-13-M